SECURITIES AND EXCHANGE COMMISSION

Sunshine Act Meetings

Notice is hereby given, pursuant to the provisions of the Government in the Sunshine Act, Pub. L. 94-409, that the Securities and Exchange Commission will hold the following meetings during the week of October 11, 2004:

An open meeting will be held on Wednesday, October 13, 2004 at 10 a.m., in Room 1C30, the William O. Douglas Meeting Room, and a closed meeting will be held on Thursday, October 14, 2004 at 10 a.m.

Commissioners, Counsel to the Commissioners, the Secretary to the Commission, and recording secretaries will attend the closed meeting. Certain staff members who have an interest in the matters may also be present.

The General Counsel of the Commission, or his designee, has certified that, in his opinion, one or more of the exemptions set forth in 5 U.S.C. 552b(c)(3), (4), (5), (7), (8), (9)(B), and (10) and 17 CFR 200.402(a)(3), (4), (5), (7), (8), 9(ii) and (10), permit consideration of the scheduled matters at the closed meeting.

Commissioner Campos, as duty officer, voted to consider the items listed for the closed meeting in closed session.

The subject matter of the open meeting scheduled for Wednesday, October 13, 2004 will be:

The Commission will consider whether to propose amendments to Regulation M (the anti-manipulation rule concerning securities offerings) under the Securities Exchange Act of 1934.

For further information, please contact Denise Landers, Joan Collopy, Elizabeth Sandoe or Elizabeth Marino at (202) 942-0772.

The subject matter of the closed meeting scheduled for Thursday, October 14, 2004 will be:

Formal orders of investigations;

Institution and settlement of injunctive actions;

Institution and settlement of administrative proceedings of an enforcement nature; Adjudicatory matters;

Regulatory matters regarding financial institutions; and

Amicus consideration.

At times, changes in Commission priorities require alterations in the scheduling of meeting items. For further information and to ascertain what, if any, matters have been added, deleted or postponed, please contact:

The Office of the Secretary at (202) 942-7070.

Dated: October 6, 2004.
Jonathan G. Katz,
Secretary.

[FR Doc. 04-22814 Filed 10-6-04; 11:14 am]

BILLING CODE 8010-01-P